DEPARTMENT OF TRANSPORTATION

Federal Aviation Administration

14 CFR Part 97

[Docket No.: FAA-2015-0783; Amdt. No. 97-1338]

RIN 2120-AA65

Cancellation of Standard Instrument Approach Procedures as Part of the National Procedures Assessment (NPA) Initiative

AGENCY: Federal Aviation Administration (FAA), Department of Transportation (DOT).

ACTION: Final rule.

SUMMARY: The FAA is issuing a final rule that removes certain redundant or underutilized ground-based nondirectional radio beacon (NDB) and VHF omnidirectional range (VOR) Standard Instrument Approach Procedures (SIAPs). On April 13, 2015, the FAA published a notice of proposed rulemaking to remove 736 SIAPs. This final rule addresses 125 of the 198 procedures for which comments were received.

DATES: This rule is effective at 0901 UTC on November 10, 2016.

ADDRESSES: For information on where to obtain copies of rulemaking documents and other information related to this final rule, see “How To Obtain Additional Information” in the SUPPLEMENTARY INFORMATION section of this document.

FOR FURTHER INFORMATION CONTACT: Dana Mitchell, Aeronautical Information Services, AJV-5, Federal Aviation Administration, Air Traffic Organization, 1305 East-West Highway, Room 5257, Silver Spring, MD 20910; Telephone (301) 427-4897; Email AMC-ATO-IFP-Cancellations@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart i, Section 40103, sovereignty and use of airspace, and Subpart iii, Section 44701, general requirements. Under these sections, the FAA is charged with prescribing regulations to regulate the safe and efficient use of the navigable airspace; to govern the flight, navigation, protection, and identification of aircraft for the protection of persons and property on the ground, and for the efficient use of the navigable airspace (49 U.S.C. 40103(b)), and to promote safe flight of civil aircraft in air commerce by prescribing regulations and minimum standards for other practices, methods, and procedures necessary for safety in air commerce and national security (49 U.S.C. 44701(a)(5)). This action is within the scope of that authority.

SIAPs are promulgated by rulemaking procedures and are incorporated by reference into 14 CFR 97.20.

Background

On June 27, 2014, the FAA published criteria for determining whether to retain existing SIAPs (79 FR 36576). Removing identified ground-based NDB and VOR SIAPs is an integral part of right-sizing the quantity and type of procedures in the National Airspace System (NAS). As new technology facilitates the introduction of area navigation (RNAV) instrument approach procedures, the number of procedures available in the NAS has nearly doubled over the past decade. The complexity and cost of maintaining the existing ground based navigational infrastructure while expanding RNAV capability is not sustainable.

On April 13, 2015, the FAA published a notice of proposed rulemaking (NPRM) proposing to remove certain SIAPs (80 FR 19577). The NPRM included a list of 736 procedures that were identified for cancellation and the comment period closed on May 28, 2015. The FAA received comments on 198 of those procedures. Of those 198 procedures, 125 are being addressed in this final rule. The remaining 73 require additional evaluation and will be addressed in a subsequent Federal Register document.

It should be noted that NPA Instrument Flight Procedure (IFP) cancellation activities, and associated criteria, do not supersede similar activities being performed under the FAA's Very-High Frequency Omni-Directional Range Minimum Operational Network (VOR MON) Program (see 81 FR 48694 (July 26, 2016)). However, NPA IFP cancellation activities have been coordinated with the FAA office responsible for the VOR MON implementation program, as their input has been thoroughly considered.

SIAPs Being Processed for Cancellation

The following 8 SIAPs were proposed for cancellation in the NPRM: VOR/DME RWY 25, Alaska (GAL); VOR RWY 18, AL (DCU); VOR RWY 18, Illinois (CMI); VOR/DME-D, TX (BPT); VOR-A, TX (BPT); VOR-B, TX (BPT); VOR-C, TX (BPT); NDB RWY 27, WY (CYS). In reviewing the procedures and comments, the FAA realized that these 8 procedures were already being processed for cancellation and were at various stages in that process. As such, the inclusion of these procedures in the NPRM was in error as they were already subject to prior agency commitments. The FAA notes all of these procedures received comment concerning the use of airport as an alternate, IFR training need, or backup SIAP for ILS OR LOC SIAP. The FAA confirms that, with the exception of GAL VOR/DME RWY 25, for each of the above affected procedures, the airports continue to maintain at least one other ground based procedure. In addition, there remain procedures available within a 20 nm radius of these airports for instrument flight training/proficiency. The procedures are listed below with the associated Federal Register citation announcing the cancellation.

State | Airport name | ID | Approach procedure
AK | EDWARD G PITKA SR | GAL | VOR/DME RWY 25 (81 FR 51339; August 4, 2016).
IL | UNIVERSITY OF ILLINOIS-WILLARD | CMI | VOR RWY 18 (81 FR 10081; February 29, 2016).
TX | JACK BROOKS RGNL | BPT | VOR/DME-D (81 FR 32639; May 24, 2016).
TX | JACK BROOKS RGNL | BPT | VOR-A (81 FR 32639; May 24, 2016).
TX | JACK BROOKS RGNL | BPT | VOR-B (81 FR 32639; May 24, 2016).
TX | JACK BROOKS RGNL | BPT | VOR-C (81 FR 32639; May 24, 2016).
WY | CHEYENNE RGNL/JERRY OLSON FIELD | CYS | NDB RWY 27 (81 FR 32639; May 24, 2016).
TX | BROWNSVILLE/SOUTH PADRE ISLAND INTL | BRO | VOR/DME RNAV OR GPS RWY 35 (81 FR 58390; August 25, 2016).

Summary of Comments

SIAPs Remaining in Effect

Prior to the comment review process, because of the possibility of SIAP inventory changes, all procedures were again reviewed for compliance with the initial cancellation criteria as stated in the notice of policy published June 27, 2014. The following 2 procedures did not meet the stated criteria and, therefore, will remain in effect and are not included in this final rule; however the FAA may reevaluate these procedures at a later date.

State | Airport name | ID | Approach procedure
IA | FORT DODGE RGNL | FOD | VOR RWY 12.
PA | CARLISLE | N94 | NDB-B.

The following 2 procedures have been requested by the FAA's Very-High Frequency Omni-Directional Range Minimum Operational Network (VOR MON) Program to remain in effect and are not included in this final rule; however the FAA may reevaluate these procedures at a later date.

State | Airport name | ID | Approach procedure
MI | GERALD R. FORD INTL | GRR | VOR RWY 17.
WI | BURLINGTON MUNI | BUU | VOR-A.

The following 18 procedures have been requested by the Department of Defense to remain in effect and are not included in this final rule; however the FAA may reevaluate these procedures at a later date.

State | Airport name | ID | Approach procedure
IL | ST LOUIS RGNL | ALN | VOR-A.
IL | UNIVERSITY OF ILLINOIS-WILLARD | CMI | VOR/DME RWY 14L.
IL | GREATER KANKAKEE | IKK | VOR RWY 04.
IL | ABRAHAM LINCOLN CAPITAL | SPI | VOR/DME RWY 04.
IL | ABRAHAM LINCOLN CAPITAL | SPI | VOR/DME RWY 22.
IL | ABRAHAM LINCOLN CAPITAL | SPI | VOR/DME RWY 31.
IN | FORT WAYNE INTL | FWA | VOR OR TACAN RWY 05.
IN | FORT WAYNE INTL | FWA | VOR OR TACAN RWY 14.
MO | ROSECRANS MEMORIAL | STJ | VOR OR TACAN RWY 17.
MO | ROSECRANS MEMORIAL | STJ | VOR/DME OR TACAN RWY 35.
TX | ALICE INTL | ALI | VOR-A.
TX | JACK BROOKS RGNL | BPT | VOR RWY 12.
TX | VALLEY INTL | HRL | VOR/DME RWY 17R.
TX | VALLEY INTL | HRL | VOR/DME RWY 35L.
TX | MC ALLEN MILLER INTL | MFE | VOR RWY 13.
TX | MC ALLEN MILLER INTL | MFE | VOR RWY 31.
TX | PORT ISABEL-CAMERON COUNTY | PIL | VOR-A.
MT | GREAT FALLS INTL | GTF | NDB RWY 34.

Numerous comments mentioned the need for a VOR or NDB procedure as a “backup” in case a localizer-based procedure became unusable for any reason. The FAA determined that, in the case of an airport having a single instrument approach procedure using a localizer NavAid, or multiple instrument approach procedures using a single localizer NavAid, that a VOR or NDB procedure would be retained at that airport in case the localizer NavAid became unusable. Due to this determination, the following 25 procedures will remain in effect and are not included in this final rule; however, the FAA may reevaluate these procedures at a later date.

State | Airport name | ID | Approach procedure
AR | MENA INTERMOUNTAIN MUNI | MEZ | VOR/DME-A.
CA | ARCATA | ACV | VOR/DME RWY 14.
CA | EASTERN SIERRA RGNL | BIH | VOR OR GPS-A.
CA | BOB HOPE | BUR | VOR RWY 08.
CA | BRACKETT FIELD | POC | VOR OR GPS-A.
CA | SANTA MARIA PUB/CAPT G ALLAN HANCOCK FLD | SMX | VOR RWY 12.
GA | HEART OF GEORGIA RGNL | EZM | VOR/DME-A.
GA | THOMSON-MCDUFFIE COUNTY | HQU | VOR/DME-A.
IA | MASON CITY MUNI | MCW | VOR RWY 36.
IA | SPENCER MUNI | SPW | VOR/DME RWY 30.
IN | TERRE HAUTE INTL-HULMAN FIELD | HUF | VOR RWY 23.
KS | PHILIP BILLARD MUNI | TOP | VOR RWY 22.
MI | BISHOP INTL | FNT | VOR RWY 18.
MO | CAPE GIRARDEAU RGNL | CGI | VOR RWY 02.
MT | BOZEMAN YELLOWSTONE INTL | BZN | VOR RWY 12.
MT | YELLOWSTONE | WYS | NDB RWY 1.
NC | LINCOLNTON-LINCOLN COUNTY RGNL | IPJ | NDB RWY 23.
NH | BOIRE FIELD | ASH | VOR-A.
NV | ELKO RGNL | EKO | VOR/DME-B.
OK | RICHARD LLOYD JONES JR | RVS | VOR/DME-A.
TX | MAJORS | GVT | VOR/DME RWY 17.
TX | NORTH TEXAS RGNL/PERRIN FIELD | GYI | VOR/DME-A.
VA | NEW RIVER VALLEY | PSK | VOR/DME RWY 06.
WA | SNOHOMISH COUNTY (PAINE FLD) | PAE | VOR/DME RWY 16R.
WI | CHIPPEWA VALLEY RGNL | EAU | VOR-A.

Numerous comments mentioned the need for a VOR and/or NDB procedures for IFR training and/or proficiency. To address that concern, each procedure that received a comment(s) pertaining to IFR training and/or proficiency was reviewed in the following manner: If there was not a similar type (i.e., VOR, NDB) procedure at an airport within 20NM of the airport containing the procedure in question, the procedure in question would be retained. Based upon the method for reviewing comments pertaining to IFR training and/or proficiency, the following 11 procedures will remain in effect and are not included in this final rule; however, the FAA may reevaluate these procedures at a later date.

State | Airport name | ID | Approach procedure
AK | SOLDOTNA | SXQ | NDB RWY 25.
AK | SOLDOTNA | SXQ | VOR/DME-A.
AK | TALKEETNA | TKA | VOR-A.
AZ | CHANDLER MUNI | CHD | NDB RWY 4R.
CA | CATALINA | AVX | VOR OR GPS-A.
IA | DUBUQUE RGNL | DBQ | VOR RWY 36.
KS | NEWTON-CITY-COUNTY | EWK | VOR/DME-A.
LA | RUSTON RGNL | RSN | VOR/DME-A.
SD | WATERTOWN RGNL | ATY | VOR OR TACAN RWY 17.
TX | WHARTON RGNL | ARM | VOR/DME-A.
VA | CULPEPER RGNL | CJR | NDB RWY 4.

The following instrument flight procedures received comments that were not substantive enough to warrant retention in the National Airspace System IFP inventory. Some comments were general in nature, expressing opposition to the cost of equipping their aircraft with GPS equipment, while others expressed opposition to the decommissioning of NavAids, which is unrelated to this final rule. Numerous comments pertained to the cancellation of multiple procedures at each airport, but those comments became insubstantial once another procedure at the same airport was retained, as in the instances mentioned previously in this final rule. Cancellation of the following 59 procedures is in accordance with the criteria stated in the notice of policy published June 27, 2014, as well as the criteria established for the provision for IFR training/proficiency as stated earlier in this final rule.

State | Airport name | ID | Approach procedure
AK | BETHEL | BET | VOR/DME RWY 19R.
AR | SPRINGDALE MUNI | ASG | VOR RWY 18.
AR | MEMORIAL FIELD | HOT | VOR Y RWY 05.
CA | ARCATA | ACV | VOR/DME RWY 01.
CA | EASTERN SIERRA RGNL | BIH | VOR/DME OR GPS-B.
CA | BRAWLEY MUNI | BWC | VOR/DME-A.
CA | LOS BANOS MUNI | LSN | VOR/DME RWY 14.
GA | FULTON COUNTY AIRPORT-BROWN FIELD | FTY | NDB RWY 8.
GA | GWINNETT COUNTY-BRISCOE FIELD | LZU | NDB RWY 25.
GA | BARROW COUNTY | WDR | VOR/DME-A.
IA | THE EASTERN IOWA | CID | VOR RWY 27.
IA | THE EASTERN IOWA | CID | VOR/DME RWY 09.
IA | MASON CITY MUNI | MCW | VOR/DME RWY 18.
IA | SPENCER MUNI | SPW | VOR/DME RWY 12.
ID | BOISE AIR TERMINAL/GOWEN FLD | BOI | VOR/DME RWY 10R.
ID | BURLEY MUNI | BYI | VOR/DME-B.
ID | POCATELLO RGNL | PIH | VOR/DME RWY 21.
IL | AURORA MUNI | ARR | VOR RWY 15.
IL | AURORA MUNI | ARR | VOR RWY 33.
IL | MOUNT VERNON | MVN | VOR RWY 23.
IN | EVANSVILLE RGNL | EVV | NDB RWY 22.
IN | MARION MUNI | MZZ | VOR RWY 22.
IN | MARION MUNI | MZZ | VOR RWY 4.
IN | KOKOMO MUNI | OKK | VOR RWY 23.
IN | INDIANAPOLIS EXECUTIVE | TYQ | VOR/DME RWY 36.
LA | BATON ROUGE METROPOLITAN-RYAN FIELD | BTR | NDB RWY 31.
LA | BATON ROUGE METROPOLITAN-RYAN FIELD | BTR | VOR/DME RWY 22R.
LA | RUSTON RGNL | RSN | NDB RWY 36.
ME | AUGUSTA STATE | AUG | VOR/DME RWY 08.
ME | AUGUSTA STATE | AUG | VOR/DME RWY 17.
MI | JACKSON COUNTY-REYNOLDS FIELD | JXN | VOR/DME RWY 24.
MO | CAPE GIRARDEAU RGNL | CGI | VOR RWY 10.
MO | MACON-FOWER MEMORIAL | K89 | VOR/DME RWY 20.
MO | SPIRIT OF ST LOUIS | SUS | NDB RWY 26L.
MO | SPIRIT OF ST LOUIS | SUS | NDB RWY 8R.
MT | BERT MOONEY | BTM | VOR/DME OR GPS-A.
MT | BOZEMAN YELLOWSTONE INTL | BZN | VOR/DME RWY 12.
MT | MISSION FIELD | LVM | VOR-A.
MT | SIDNEY-RICHLAND MUNI | SDY | NDB RWY 1.
NC | ELIZABETH CITY CG AIR STATION/RGNL | ECG | VOR/DME RWY 10.
NE | WAYNE MUNI/STAN MORRIS FLD | LCG | NDB RWY 23.
NE | NORFOLK RGNL/KARL STEFAN MEMORIAL FLD | OFK | VOR RWY 01.
NH | BOIRE FIELD | ASH | NDB RWY 14.
NV | ELKO RGNL | EKO | VOR-A.
NY | CHAUTAUQUA COUNTY/DUNKIRK | DKK | VOR RWY 06.
OK | RICHARD LLOYD JONES JR | RVS | VOR RWY 1L.
TX | NORTH TEXAS RGNL/PERRIN FIELD | GYI | NDB RWY 17L.
TX | DRAUGHON-MILLER CENTRAL TEXAS RGNL | TPL | VOR RWY 15.
VA | DANVILLE RGNL | DAN | VOR RWY 02.
VA | NEW RIVER VALLEY | PSK | VOR-A.
VA | ROANOKE RGNL/WOODRUM FIELD | ROA | VOR RWY 34, formerly VOR/NDB RWY 34.
WA | SNOHOMISH COUNTY (PAINE FLD) | PAE | VOR RWY 16R.
WI | DANE COUNTY RGNL-TRUAX FIELD | MSN | VOR/DME OR TACAN RWY 14.
WI | DANE COUNTY RGNL-TRUAX FIELD | MSN | VOR/DME OR TACAN RWY 32.
WI | DANE COUNTY RGNL-TRUAX FIELD | MSN | VOR/DME OR TACAN RWY 18.
WV | GREENBRIER VALLEY | LWB | VOR RWY 04.
WY | CASPER/NATRONA COUNTY INTL | CPR | VOR/DME RWY 03.
WY | EVANSTON-UINTA COUNTY BURNS FIELD | EVW | VOR/DME RWY 23.
WY | GILLETTE-CAMPBELL COUNTY | GCC | VOR/DME RWY 34.

The Amendment

SIAPs and associated supporting data adopted or removed by the FAA are documented on FAA Forms 8260-3, 8260-4, and 8260-5, which are incorporated by reference under 5 U.S.C. 552(a), 1 CFR part 51, and 14 CFR part 97. The FAA has determined that the 59 procedures listed above should be removed consistent with FAA policy on maintaining instrument approach procedures in the NAS.

Conclusion

The FAA has determined that this final rule only involves an established body of technical regulations for which frequent and routine amendments are necessary to keep them operationally current. It, therefore—(1) is not a “significant regulatory action” under Executive Order 12866; (2) is not a “significant rule” under DOT Regulatory Policies and Procedures (44 FR 11034; February 26, 1979) and (3) does not warrant preparation of a regulatory evaluation as the anticipated impact is so minimal. For the same reason, the FAA certifies that this amendment will not have a significant economic impact on a substantial number of small entities under the criteria of the Regulatory Flexibility Act.

Additional Information

A. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Publishing Office's Web page at http://www.gpo.gov/fdsys/.

Copies may also be obtained by sending a request to the Federal Aviation Administration, Office of Rulemaking, ARM-1, 800 Independence Avenue SW., Washington, DC 20591, or by calling (202) 267-9677. Persons requesting additional information must identify the docket or amendment number of this rulemaking.

All documents the FAA considered in developing this rule, including technical reports, may be accessed from the Internet through the Federal eRulemaking Portal referenced in item (1) above.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

List of Subjects in 14 CFR Part 97

Air traffic control, Airports, Incorporation by reference, Navigation (air).

Issued in Washington, DC, on October 4, 2016.
John S. Duncan,
Director, Flight Standards Service.

Adoption of the Amendment

Accordingly, pursuant to the authority delegated to me, Title 14, Code of Federal Regulations, Part 97 (14 CFR part 97) is amended by removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, and 44721-44722.

2. Part 97 is amended by removing the specified procedures as follows:

State | Airport name | ID | Approach procedure
AK | BETHEL | BET | VOR/DME RWY 19R.
AR | SPRINGDALE MUNI | ASG | VOR RWY 18.
AR | MEMORIAL FIELD | HOT | VOR Y RWY 05.
CA | ARCATA | ACV | VOR/DME RWY 01.
CA | EASTERN SIERRA RGNL | BIH | VOR/DME OR GPS-B.
CA | BRAWLEY MUNI | BWC | VOR/DME-A.
CA | LOS BANOS MUNI | LSN | VOR/DME RWY 14.
GA | FULTON COUNTY AIRPORT-BROWN FIELD | FTY | NDB RWY 8.
GA | GWINNETT COUNTY-BRISCOE FIELD | LZU | NDB RWY 25.
GA | BARROW COUNTY | WDR | VOR/DME-A.
IA | THE EASTERN IOWA | CID | VOR RWY 27.
IA | THE EASTERN IOWA | CID | VOR/DME RWY 09.
IA | MASON CITY MUNI | MCW | VOR/DME RWY 18.
IA | SPENCER MUNI | SPW | VOR/DME RWY 12.
ID | BOISE AIR TERMINAL/GOWEN FLD | BOI | VOR/DME RWY 10R.
ID | BURLEY MUNI | BYI | VOR/DME-B.
ID | POCATELLO RGNL | PIH | VOR/DME RWY 21.
IL | AURORA MUNI | ARR | VOR RWY 15.
IL | AURORA MUNI | ARR | VOR RWY 33.
IL | MOUNT VERNON | MVN | VOR RWY 23.
IN | EVANSVILLE RGNL | EVV | NDB RWY 22.
IN | MARION MUNI | MZZ | VOR RWY 22.
IN | MARION MUNI | MZZ | VOR RWY 4.
IN | KOKOMO MUNI | OKK | VOR RWY 23.
IN | INDIANAPOLIS EXECUTIVE | TYQ | VOR/DME RWY 36.
LA | BATON ROUGE METROPOLITAN-RYAN FIELD | BTR | NDB RWY 31.
LA | BATON ROUGE METROPOLITAN-RYAN FIELD | BTR | VOR/DME RWY 22R.
LA | RUSTON RGNL | RSN | NDB RWY 36.
ME | AUGUSTA STATE | AUG | VOR/DME RWY 08.
ME | AUGUSTA STATE | AUG | VOR/DME RWY 17.
MI | JACKSON COUNTY-REYNOLDS FIELD | JXN | VOR/DME RWY 24.
MO | CAPE GIRARDEAU RGNL | CGI | VOR RWY 10.
MO | MACON-FOWER MEMORIAL | K89 | VOR/DME RWY 20.
MO | SPIRIT OF ST LOUIS | SUS | NDB RWY 26L.
MO | SPIRIT OF ST LOUIS | SUS | NDB RWY 8R.
MT | BERT MOONEY | BTM | VOR/DME OR GPS-A.
MT | BOZEMAN YELLOWSTONE INTL | BZN | VOR/DME RWY 12.
MT | MISSION FIELD | LVM | VOR-A.
MT | SIDNEY-RICHLAND MUNI | SDY | NDB RWY 1.
NC | ELIZABETH CITY CG AIR STATION/RGNL | ECG | VOR/DME RWY 10.
NE | WAYNE MUNI/STAN MORRIS FLD | LCG | NDB RWY 23.
NE | NORFOLK RGNL/KARL STEFAN MEMORIAL FLD | OFK | VOR RWY 01.
NH | BOIRE FIELD | ASH | NDB RWY 14.
NV | ELKO RGNL | EKO | VOR-A.
NY | CHAUTAUQUA COUNTY/DUNKIRK | DKK | VOR RWY 06.
OK | RICHARD LLOYD JONES JR | RVS | VOR RWY 1L.
TX | NORTH TEXAS RGNL/PERRIN FIELD | GYI | NDB RWY 17L.
TX | DRAUGHON-MILLER CENTRAL TEXAS RGNL | TPL | VOR RWY 15.
VA | DANVILLE RGNL | DAN | VOR RWY 02.
VA | NEW RIVER VALLEY | PSK | VOR-A.
VA | ROANOKE RGNL/WOODRUM FIELD | ROA | VOR/NDB RWY 34, VOR RWY 34.
WA | SNOHOMISH COUNTY (PAINE FLD) | PAE | VOR RWY 16R.
WI | DANE COUNTY RGNL-TRUAX FIELD | MSN | VOR/DME OR TACAN RWY 14.
WI | DANE COUNTY RGNL-TRUAX FIELD | MSN | VOR/DME OR TACAN RWY 32.
WI | DANE COUNTY RGNL-TRUAX FIELD | MSN | VOR/DME OR TACAN RWY 18.
WV | GREENBRIER VALLEY | LWB | VOR RWY 04.
WY | CASPER/NATRONA COUNTY INTL | CPR | VOR/DME RWY 03.
WY | EVANSTON-UINTA COUNTY BURNS FIELD | EVW | VOR/DME RWY 23.
WY | GILLETTE-CAMPBELL COUNTY | GCC | VOR/DME RWY 34.

[FR Doc. 2016-24445 Filed 10-14-16; 8:45 am]

BILLING CODE 4910-13-P